DEPARTMENT OF TRANSPORTATION

Federal Aviation Administration

14 CFR Part 39

[Docket No. FAA-2012-1180; Directorate Identifier 2012-CE-032-AD]

RIN 2120-AA64

Airworthiness Directives; Hawker Beechcraft Corporation

AGENCY: Federal Aviation Administration (FAA), DOT.

ACTION: Supplemental notice of proposed rulemaking (NPRM); reopening of comment period.

SUMMARY: We are revising an earlier proposed airworthiness directive (AD) for certain Hawker Beechcraft Corporation (HBC) Models 58, 58TC, 58P, 95C55, E55, and 56TC airplanes. That NPRM proposed requiring inspections of elevator balance weights and replacement of defective elevator balance weights. That NPRM was prompted by reports of elevator balance weights becoming loose or failing because the balance weight material was under strength and did not meet material specifications. This action revises that NPRM to prohibit the installation of designated spare parts and to clarify applicability. We are proposing this supplemental NPRM to correct the unsafe condition on these products. Since these actions impose an additional burden over that proposed in the NPRM, we are reopening the comment period to allow the public the chance to comment on these proposed changes.

DATES: We must receive comments on this supplemental NPRM by July 1, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Hawker Beechcraft Corporation, B091-A04, 10511 E. Central Ave., Wichita, Kansas 67206; telephone: 1 (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: T. N. Baktha, Senior Aerospace Engineer, FAA, Wichita ACO, 1801 Airport Road, Room 100, Wichita, Kansas 67209; telephone: (316) 946-4155; fax: (316) 946-4107; email: t.n.baktha@faa.gov.

SUPPLEMENTARY INFORMATION:

Comments Invited

We invite you to send any written relevant data, views, or arguments about this proposed AD. Send your comments to an address listed under the ADDRESSES section. Include “Docket No. FAA-2012-1180; Directorate Identifier 2012-CE-032-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain Hawker Beechcraft Corporation (HBC) Models 58, 58TC, 58P, 95C55, E55, and 56TC airplanes. That NPRM published in the Federal Register on November 6, 2012 (77 FR 66566). That NPRM proposed to require inspections of elevator balance weights and replacement of defective elevator balance weights. The balance weight material was understrength and did not meet the material specification requirements. A balance weight looseness and/or failure could reduce the flutter speed and lead to loss of control.

Actions Since Previous NPRM Was Issued

Since we issued the previous NPRM (77 FR 66566, November 6, 2012), we identified the need to clarify the applicability and prohibit the installation of designated spare parts on airplanes. This change decreases the exposed risk by not allowing known faulty parts to enter into service and mitigates the chance of multiple opportunities for the same airplane to experience faulty part installation reintroducing the unsafe condtion.

Comments

We gave the public the opportunity to comment on the original NPRM (77 FR 66566, November 6, 2012). We received no comments on that NPRM or on the determination of the cost to the public.

FAA's Determination

We are proposing this supplemental NPRM because we evaluated all the relevant information and determined the unsafe condition described previously is likely to exist or develop in other products of the same type design. Certain changes described above expand the scope of the original NPRM (77 FR 66566, November 6, 2012). As a result, we have determined that it is necessary to reopen the comment period to provide additional opportunity for the public to comment on this supplemental NPRM.

Proposed Requirements of the Supplemental NPRM

This supplemental NPRM would require accomplishing the actions specified in the service information described previously.

Costs of Compliance

We estimate that this proposed AD affects 1,326 airplanes of U.S. registry.

We estimate the following costs to comply with this proposed AD:

Estimated Costs
Action | Labor cost | Parts cost | Cost per product | Cost on U.S. operators
Inspection of the elevator balance weight | .5 work-hour × $85 per hour = $42.50 | Not applicable | $42.50 | $56,355

We estimate the following costs to do any necessary replacements that would be required based on the results of the proposed inspection. We have no way of determining the number of aircraft that might need this replacement:

On-Condition Costs
Action | Labor cost | Parts cost | Cost per product
Replacement of elevator balance weight | 1 work-hour × $85 per hour = $85 | $300 | $385

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation: Docket No. FAA-2012-1180; Directorate Identifier 2012-CE-032-AD.

(a) Comments Due Date

We must receive comments by July 1, 2013.

(b) Affected ADs

None.

(c) Applicability

This AD applies to Hawker Beechcraft Corporation (HBC) Models 58, 58TC, 58P, 95C55, E55, and 56TC airplanes, all serial numbers, certificated in any category.

(d) Subject

Joint Aircraft System Component (JASC)/Air Transport Association (ATA) of America Code 2730: Elevator Balance Weight.

(e) Unsafe Condition

This AD was prompted by reports of elevator balance weights becoming loose or failing because the balance weight material was under strength and did not meet material specifications. We are issuing this AD to prevent the elevator balance weights from becoming lose or failing, which could result in reduced flutter speed and lead to loss of control.

(f) Compliance

Comply with this AD within the compliance times specified, unless already done, following the instructions in Hawker Beechcraft Mandatory Service Bulletin SB 55-4089, Revision 1, dated February, 2012.

(g) Inspect Maintenance Records

(1) For Model 58 airplanes, serial numbers TH-1768 through TH-2110, review the airplane maintenance records to determine if either of the elevator balance weights have ever been replaced. An owner/operator (pilot) holding at least a private pilot certificate is allowed to do this action.

(i) If, as a result of the maintenance records check, you positively identify that one or both of the elevator balance weights have never been replaced, then complete all of the actions in paragraph (h) and (i), all subparagraphs, as applicable in this AD.

(ii) If, as a result of the maintenance records check, you identify both balance weights have been replaced and you can positively identify by means of an Airworthiness Approval Tag (FAA Form 8130-3) or other positive form of parts identification such as a shipping ticket, invoice, or direct ship authority letter, that the purchase date from Hawker Beechcraft Corporation (HBC) on both balance weights is outside the date range of January 1, 1996, and December 31, 2005, then no further action is required for this AD.

(iii) For a replaced balance weight, if you cannot positively identify the date of purchase of a balance weight from HBC, then you must complete all of the actions in paragraph (h) and (i), all subparagraphs, as applicable in this AD.

(2) For Model 58 airplanes, all serial numbers (except TH-1768 through TH-2110), and Models 58TC, 58P, 95C55, E55, and 56TC airplanes, all serial numbers, review the airplane maintenance records to determine if the elevator balance weights have ever been replaced. An owner/operator (pilot) holding at least a private pilot certificate is allowed to do this action.

(i) If, as a result of the maintenance records check, you positively identify that both of the elevator balance weights have never been replaced, then no further action is required for this AD. An owner/operator (pilot) holding at least a private pilot certificate is allowed to do this action.

(ii) If, as a result of the maintenance records check, you identify that one or both of the balance weights have been replaced and you can positively identify by means of an Airworthiness Approval Tag (FAA Form 8130-3) or other positive form of parts identification such as a shipping ticket, invoice, or direct ship authority letter, that the purchase date from HBC is outside the date range of January 1, 1996, and December 31, 2005, then no further action is required for this AD.

(iii) If you cannot positively identify the date of purchase of an aircraft balance weight from HBC, then you must perform all of the actions in paragraph (h) and (i), all subparagraphs, as applicable in this AD.

(h) Inspection of Elevator Balance Weight

Before further flight after the effective date of this AD and thereafter at intervals not to exceed 100 hours time-in-service (TIS) until the replacement required by this AD is done, inspect the elevator balance weights for looseness, failure, and/or working (smoking) fasteners and inserts.

(i) Replacement of Elevator Balance Weight

(1) Replace the defective elevator balance weight with an airworthy balance weight as specified in Hawker Beechcraft Mandatory Service Bulletin SB 55-4089, Revision 1, dated February, 2012, at either paragraph (i)(1)(i) or (i)(1)(ii) of this AD, whichever occurs first:

(i) Before further flight after any inspection required by paragraph (g) of this AD where any looseness, failure, and/or working (smoking) fasteners and inserts are found; or,

(ii) Within the next 200 hours TIS after the effective date of this AD.

(2) Replacement of elevator balance weights with airworthy elevator balance weights terminates the 100-hour inspection requirement in paragraph (g) of this AD.

(3) As of the effective date of this AD, do not install P/N 96-610022, P/N 96-61022-5, P/N 96-610022-7, and P/N 96-610022-9 elevator balance weight assemblies, if originally purchased from Hawker Beechcraft Corporation between January 1, 1996, and December 31, 2005, on any airplane.

(j) Special Flight Permit

Special flight is permitted with the following limitations: Maximum structural cruising speed (Vno) = Design Speed for maximum gust intensity (Vb) = 195 Knots Calibrated Airspeed (KCAS), or Vno=Vb=195KCAS. This special flight is not allowed into known turbulence, and the duration of this flight should not be more than a total of 10 hours TIS.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

(1) For more information about this AD, contact T. N. Baktha, Senior Aerospace Engineer, FAA, Wichita ACO, 1801 Airport Road, Room 100, Wichita, Kansas 67209; telephone: (316) 946-4155; fax: (316) 946-4107; email: t.n.baktha@faa.gov.

(2) For service information identified in this AD, contact Hawker Beechcraft Corporation, B091-A04, 10511 E. Central Ave., Wichita, Kansas 67206; telephone: 1 (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Issued in Kansas City, Missouri, on May 8, 2013.
Earl Lawrence,
Manager, Small Airplane Directorate, Aircraft Certification Service.

[FR Doc. 2013-11535 Filed 5-14-13; 8:45 am]

BILLING CODE 4910-13-P